DEPARTMENT OF AGRICULTURE

Forest Service

Ouachita-Ozark Resource Advisory Committee

AGENCY: Forest Service, USDA.

ACTION: Notice of meeting.

SUMMARY: The Ouachita-Ozark Resource Advisory Committee will meet in Waldron, Arkansas. The committee is meeting as authorized under the Secure Rural Schools and Community Self-Determination Act (Pub. L. 110-343) and in compliance with the Federal Advisory Committee Act. The purpose is to discuss general information, review proposals, review updates on current or completed Title II projects, and to set next meeting agenda.

DATES: The meeting will be held on June 9, 2011, beginning at 6 p.m. and ending at approximately 9 p.m. Alternate meeting dates will be June 14 and June 16 in case of postponement due to weather, lack of committee quorum, or other unforeseen circumstances,. Please call 501-321-5202 prior to June 9th to determine if the meeting has been postponed.

ADDRESSES: The meeting will be held at the Scott County Courthouse, 190 W 1st Street, Waldron, Arkansas.

Written comments should be sent to: Caroline Mitchell, Committee Coordinator, USDA, Ouachita National Forest, P.O. Box 1270, Hot Springs, AR 71902. Comments may also be sent via e-mail to carolinemitchell@fs.fed.us or via facsimile to 501-321-5399.

All comments, including names and addresses when provided, are placed in the record and are available for public inspection and copying. The public may inspect comments received at 100 Reserve Street, Hot Springs, AR 71901. Visitors are encouraged to call ahead to 501-321-5202 to facilitate entry into the building.

FOR FURTHER INFORMATION CONTACT: Caroline Mitchell, Committee Coordinator, USDA, Ouachita National Forest, P.O. Box 1270, Hot Springs, AR 71902. (501-321-5318). Individuals who use telecommunication devices for the deaf (TDD) may call the Federal Information Relay Service (FIRS) at 1-800-877-8339 between 8 a.m. and 8 p.m., Eastern Standard Time, Monday through Friday.

SUPPLEMENTARY INFORMATION: The meeting is open to the public. Committee discussion is limited to Forest Service staff, Committee members, and elected officials. However, persons who wish to bring matters to the attention of the Committee may file written statements with the Committee staff before or after the meeting. Individuals wishing to speak or propose agenda items must send their names and proposals to Bill Pell, DFO, P.O. Box 1270, Hot Springs, AR 71902.

Dated: May 12, 2011.
Bill Pell,
Designated Federal Official.

[FR Doc. 2011-12195 Filed 5-17-11; 8:45 am]

BILLING CODE 3410-11-P